DEPARTMENT OF LABOR

Office of the Secretary

Enforcement of Title VI of the Civil Rights Act of 1964; Policy Guidance to Federal Financial Assistance Recipients Regarding the Title VI Prohibition Against National Origin Discrimination Affecting Limited English Proficient Persons

AGENCY: Office of the Secretary, Labor.

ACTION: Notice of policy guidance; re-opening and extension of comment period.

SUMMARY: This document re-opens and extends the period for filing comments regarding the Department of Labor's (DOL) Revised Guidance to Federal Financial Assistance Recipients Regarding the Title VI Prohibition Against National Origin Discrimination Affecting Limited English Proficient Persons (Revised DOL Recipient LEP Guidance).

DATES: Comments must be submitted on or before August 7, 2003.

ADDRESSES: Interested persons should submit written comments to Ms. Annabelle T. Lockhart, Director, Civil Rights Center, U.S. Department of Labor, 200 Constitution Ave., NW., Room N-4123, Washington, DC 20210. Commenters wishing acknowledgment of their comments must submit them by certified mail, return receipt requested. Please be advised that mail delivery to federal buildings in the Washington, DC metropolitan area may experience delays due to concerns about anthrax contamination. Comments may also be transmitted by facsimile to (202) 693-6505 or by e-mail to civilrightscenter@dol.gov.

FOR FURTHER INFORMATION CONTACT: Annabelle Lockhart or Naomi Barry-Pérez at the Civil Rights Center, U.S. Department of Labor, 200 Constitution Ave., NW., Room N-4123, Washington, DC 20210. Telephone: 202-693-6500; TTY: 202-693-6515. Arrangements to receive the Guidance in an alternative format may be made by contacting the named individuals.

SUPPLEMENTARY INFORMATION: In the Federal Register of May 29, 2003 (68 FR 32290), the Department of Labor published Revised Guidance to Federal Financial Assistance Recipients Regarding the Title VI Prohibition Against National Origin Discrimination Affecting Limited English Proficient Persons (Revised DOL Recipient LEP Guidance). Interested persons were requested to submit comments on or before June 30, 2003.

Due to technological difficulties, the email account of the Department of Labor Civil Rights Center (civilrightscenter@dol.gov) was unable to receive incoming messages. Messages sent to this email account prior to June 27, 2003, were not received and cannot be retrieved. In order to provide commenters with an opportunity to resubmit comments, the comment period for the Revised DOL Recipient LEP Guidance is extended to August 7, 2003.

Signed in Washington, DC this 1st of July, 2003.
Patrick Pizzella,
Assistant Secretary for Administration and Management.

[FR Doc. 03-17188 Filed 7-7-03; 8:45 am]

BILLING CODE 4510-23-P